DEPARTMENT OF TRANSPORTATION

Federal Aviation Administration

Notice of Request To Release Property at Charlotte Douglas International Airport, Charlotte, NC (CLT)

AGENCY: Federal Aviation Administration (FAA), DOT.

ACTION: Notice.

SUMMARY: The Federal Aviation Administration is requesting public comment on a request by City of Charlotte, to release of land (69.273 acres) at Charlotte Douglas International Airport from federal obligations.

DATES: Comments must be received on or before April 5, 2021.

ADDRESSES: Comments on this notice may be emailed to the FAA at the following email address: FAA/Memphis Airports District Office, Attn: Duane L. Johnson, Assistant Manager, Duane.Johnson@faa.gov.

In addition, one copy of any comments submitted to the FAA must be mailed or delivered to Ms. Haley Gentry, Acting Aviation Director, Charlotte Douglas International Airport at the following address: 5601 Wilkinson Blvd., Charlotte, NC 28208.

FOR FURTHER INFORMATION CONTACT: Duane L. Johnson, Assistant Manager, Federal Aviation Administration, Memphis Airports District Office, 2600, Thousand Oaks Boulevard, Suite 2250, Memphis, TN 38118-2482, (901) 322-8191, or Duane.Johnson@faa.gov. The application may be reviewed in person at this same location, by appointment.

SUPPLEMENTARY INFORMATION: The FAA proposes to rule and invites public comment on the request to release property for disposal at Charlotte Douglas International Airport, 5601 Wilkinson Blvd., Charlotte, NC 28208, under the provisions of 49 U.S.C. 47107(h)(2). The FAA determined that the request to release property at Charlotte Douglas International Airport (CLT) submitted by the Sponsor meets the procedural requirements of the Federal Aviation Administration and the release of these properties does not and will not impact future aviation needs at the airport. The FAA may approve the request, in whole or in part, no sooner than thirty days after the publication of this notice.

The request consists of the following:

The City of Charlotte is proposing the release of airport property totaling 69.273 acres, more or less. This land is to be used by the Norfolk Southern Railway Company (NSRC) for the expansion of an Intermodal Rail Facility (69.273 acres fee simple). NRSC has the option to purchase this land for the same non-aeronautical purpose under a current long term lease. The release of land is necessary to comply with FAA Grant Assurances that do not allow federally acquired airport property to be used for non-aviation purposes. The sale of the subject property will result in the land at Charlotte Douglas International Airport (CLT) being changed permanently from aeronautical to non-aeronautical use and releases the lands from the conditions of the Airport Improvement Program (AIP) Grant Agreement Grant Assurances. In accordance with 49 U.S.C. 47107(c)(2)(B)(i) and (iii), the airport will receive fair market value for the property, which will be subsequently reinvested in FAA approved eligible AIP projects for aviation facilities at Charlotte Douglas International Airport (CLT). The proposed use of this property is compatible with airport operations. The property is located on Charlotte Douglas International Airport, bordered on the west by Runway 18R-36L, bordered on the east by Runway 18C-36C, bordered on the north by Taxiway N, and by West Boulevard to the south.

This request will release this property from federal obligations. This action is taken under the provisions of 49 U.S.C. 47107(h)(2).

Any person may inspect the request in person at the FAA office listed above under FOR FURTHER INFORMATION CONTACT.

In addition, any person may, upon request, inspect the request, notice and other documents germane to the request in person at the Charlotte Douglas International Airport.

Issued in Memphis, Tennessee, on March 2, 2021.
Duane Leland Johnson,
Assistant Manager, Memphis Airports District Office, Southern Region.

[FR Doc. 2021-04642 Filed 3-4-21; 8:45 am]

BILLING CODE 4910-13-P